DEPARTMENT OF THE INTERIOR

Bureau of Land Management

[LLNVS01000 L58530000 EU0000; 11-08807; MO# 4500022239; TAS: 14X5232]

Notice of Availability of the Final Supplemental Environmental Impact Statement and Record of Decision for the Upper Las Vegas Wash Conservation Transfer Area, Las Vegas, NV

AGENCY: Bureau of Land Management, Interior.

ACTION: Notice of Availability.

SUMMARY: In accordance with the National Environmental Policy Act of 1969 (NEPA), as amended, and the Federal Land Policy and Management Act of 1976, as amended, the Bureau of Land Management (BLM) has prepared a Final Supplemental Environmental Impact Statement (EIS) and a Record of Decision (ROD) for the Upper Las Vegas Wash Conservation Transfer Area, Las Vegas, Nevada, and by this notice is announcing their availability.

DATES: The final decision on the Upper Las Vegas Wash Conservation Transfer Area will not become effective for a minimum of 30 days after the Environmental Protection Agency publishes its notice of availability in the Federal Register.

ADDRESSES: Printed copies or a compact disc of the Final Supplemental EIS are available on request from the BLM Las Vegas Field Office, 4701 N. Torrey Pines Drive, Las Vegas, Nevada 89130, phone 702-515-5000, or email to: NV_SNDO_Planning@blm.gov. Interested persons may also review the Final Supplemental EIS at the following Web site: http://www.blm.gov/nv/st/en/fo/lvfo.html.

Copies of the Final Supplemental EIS and ROD are available for public inspection at the following locations in Nevada:

• BLM Nevada State Office, 1340 Financial Blvd., Reno

• BLM Southern Nevada District Office, 4701 North Torrey Pines Drive, Las Vegas

FOR FURTHER INFORMATION CONTACT: Bob Ross, telephone 702-515-5199; address Las Vegas Field Office, 4701 N. Torrey Pines Drive, Las Vegas, NV 89130; or email Bob_Ross@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Final Supplemental EIS describes and analyzes boundary adjustments to the Upper Las Vegas Wash Conservation Transfer Area (CTA). The CTA study area is located in the northern portion of the Las Vegas Valley. In 1998, the Southern Nevada Public Land Management Act (SNPLMA) authorized the BLM to dispose of Federal land in Clark County, Nevada. In 2002, the Clark County Conservation of Public Land and Natural Resources Act amended the SNPLMA to expand the disposal boundary area and added approximately 22,000 acres of land available for disposal. The BLM analyzed the impacts of all lands eligible for disposal in the Las Vegas Valley in the 2004 Las Vegas Disposal Boundary Final EIS and ROD. The Las Vegas Disposal Boundary Final EIS identified a 5,000 acre general area as the CTA and stipulated additional study be conducted to determine a final CTA boundary. Subsequently, due to extensive public input, an additional 8,000 acres were added to the 5,000-acre CTA study area. This Final Supplemental EIS is the culmination of the boundary study. The BLM prepared a Supplemental EIS because of the significance of paleontological, botanical, hydrological, and cultural resources present within the CTA study area and the need for additional public input. The Final Supplemental EIS/ROD selects the Preferred Alternative B as the final boundary for the CTA, which will ensure protection of sensitive resources, including fossils, cultural resources, the natural functioning of the wash, and endemic plants on public lands within the CTA study area. The Final Supplemental EIS analyzed five action alternatives ranging from approximately 13,000 acres to less than 1,500 acres and the no action alternative.

• Alternative A: 12,953 acres, includes the fossil formation, sensitive cultural and plant resources, active wash, the adjacent alluvial fan, and a 1-mile resource-protection zone around the northern and eastern boundaries of the Las Vegas Paiute reservation.

• Alternative B: 10,670 acres, includes culturally significant lands, the fossil formation, sensitive plant resources, the active wash, open space adjacent to the Las Vegas Paiute reservation, and the adjacent alluvial fan as unavailable for disposal and development. Alternative B includes 2,653 acres within the 13,000-acre study area available for development. Alternative B was originally proposed as 11,008 acres and was revised from the Draft Supplemental EIS.

• Alternative C: 6,362 acres, includes the fossil formation, sensitive cultural and plant resources, active wash, and a portion of the adjacent alluvial fan.

• Alternative D: 5,301 acres, includes most of the fossil formation, the sensitive cultural and rare plant resources, and the active wash.

• Alternative E: 3,314 acres, includes some of the fossil formation, the sensitive cultural and rare plant resources, and part of the active wash.

• No Action Alternative: 1,448 acres, includes the Tule Spring cultural site and the 300-acre Eglington Preserve.

On January 22, 2010, the Environmental Protection Agency published the Notice of Availability for the Draft Supplemental EIS for this project in the Federal Register [75 FR 3730]. The BLM held three public meetings and accepted written comments during a 60-day comment period, which was extended an additional 60 days. A total of 1,914 responses from individuals and 13 comments from governmental entities were received. The comments pertained to a variety of broad categories, including alternatives, boundaries, management, and physical/natural resources. The Final Supplemental EIS addresses the following issues identified during the comment period: the NEPA process (consultation/coordination, proposal description, alternatives, and connected actions/cumulative impacts); social resources (cultural, visual, noise, land use, recreation, transportation, and socioeconomic); and physical/natural resources (botanical, water, paleontological, and earth).

Comments on the Draft Supplemental EIS received from the public and internal BLM review were considered and incorporated as appropriate into the Final Supplemental EIS. Public comments resulted in the addition of clarifying text, but did not significantly change the proposed decision.

Filing an Appeal:

The decision by BLM to select the revised Alternative B boundary as the agency's Preferred Alternative is appealable subject to 43 CFR part 4, subpart E—Special Rules Applicable to Public Land Hearings and Appeals, and 43 CFR 2801.10. Any party adversely affected by this decision may appeal within the 30 day timeframe by filing an appeal with the BLM Las Vegas Field Manager, 4701 N. Torrey Pines Drive, Las Vegas, Nevada 89130, or fax: 702-515-5023. A copy of the notice of appeal, and statement of reasons and all pertinent documents must be served on each adverse party named in the decision from which the appeal is taken and on the Office of the Regional Solicitor, U.S. Department of the Interior, Pacific Southwest Region, 2800 Cottage Way, Room E-1712, Sacramento, California 95826, no later than 15 days after filing documents with the Las Vegas Field Manager.

To file a petition for stay of the ROD pursuant to 43 CFR 4.21 while an appeal is pending before the Interior Board of Land Appeals (IBLA), the petition for stay must accompany the Notice of Appeal (43 CFR 4.21 or 43 CFR 2801.10). A petition for stay must show sufficient justification based on the standards listed in 43 CFR 4.21(b). If a petition for stay is submitted with the notice of appeal, a copy of the notice of appeal and petition for stay must be served on the IBLA at the same time it is filed with the Las Vegas Field Manager. Persons interested in filing an appeal are encouraged to consult the cited Federal regulations for additional appeal requirements.

Authority: 40 CFR 1506.6 and 1506.10.

Robert B. Ross, Jr.,
Las Vegas Field Manager.

[FR Doc. 2012-7546 Filed 3-29-12; 8:45 am]

BILLING CODE 4310-HC-P